OFFICE OF THE UNITED STATES TRADE REPRESENTATIVE

Technical Corrections to the Harmonized Tariff Schedule of the United States

AGENCY: Office of the United States Trade Representative.

ACTION: Notice.

SUMMARY: The United States Trade Representative is making technical modifications to subchapter III of chapter 99 of the Harmonized Tariff Schedule of the United States (HTS) to correct errors and omissions in the Annex to a Presidential Proclamation issued on January 23, 2018, concerning imports of large residential washers and covered parts.

DATES: The modifications and corrections are effective with respect to articles entered or withdrawn from warehouse for consumption, on or after the dates set forth in each item in the annex to this notice.

FOR FURTHER INFORMATION CONTACT: Victor Mroczka, Office of WTO and Multilateral Affairs, at vmroczka@ustr.eop.gov or 202-395-9450 or Juli Schwartz, Office of General Counsel, at juli_c_schwartz@ustr.eop.gov or 202-395-3150.

SUPPLEMENTARY INFORMATION:

1. Background

On January 23, 2018, Presidential Proclamation 9694 (83 FR 3553) established increases in duties and a tariff-rate quota known as the safeguard measure, pursuant to section 203 of the Trade Act of 1974, as amended (19 U.S.C. 2253), on imports of large residential washers and covered parts described in paragraph 5 of that Proclamation. Effective with respect to goods entered or withdrawn from warehouse for consumption, on or after 12:01 a.m., eastern standard time, on February 7, 2018, Proclamation 9694 modifies the HTS to provide for increased duties and a tariff-rate quota. The Annex to the Proclamation contained technical errors and omissions. This notice correct those errors and omissions to provide the intended tariff treatment. In particular, the notice corrects an error regarding the description of covered washer parts included in the application of the safeguard measure, as provided in paragraph 5 of Proclamation 9694.

2. Technical Corrections

Presidential Proclamation 6969 of January 27, 1997 (62 FR 4415), authorizes the United States Trade Representative to exercise the authority provided to the President under section 604 of the Trade Act (19 U.S.C. 2483) to embody rectifications, technical or conforming changes, or similar modifications in the HTS. Pursuant to this delegated authority, the United States Trade Representative is making the following changes to the HTS with respect to goods entered or withdrawn from warehouse for consumption, on or after the dates set forth below.

Annex

Effective with respect to articles entered or withdrawn from warehouse for consumption, on or after 12:01 a.m., eastern standard time, on February 7, 2018, U.S. Note 17(f) to subchapter III of chapter 99 of the Harmonized Tariff Schedule of the United States is modified:

(1) By deleting the phrase “, the foregoing which incorporate, at a minimum, (A) a side wrapper, (B) a base and (C) a drive hub” in subdivision (1);

(2) by deleting the word “and” at the end of subdivision (2);

(3) by renumbering subdivision (3) as subdivision (4); and

(4) by inserting the following new subdivision (3) in numerical order:

“(3) all assembled baskets provided for in subheading 8450.90.60 and designed for use in the washing machines defined in subdivision (c) of this note, which incorporate, at a minimum: (A) a side wrapper, (B) a base and (C) a drive hub; and”.

Jamieson Greer,
Chief of Staff, Office of the United States Trade Representative.

[FR Doc. 2018-02564 Filed 2-7-18; 8:45 am]

BILLING CODE 3190-F8-P